NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by June 24,2004. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant

Michael Castellini, Director, Institute of Marine Science, University of Alaska, Fairbanks, Fairbanks, AK 99775.

Permit Application No. 2005-002

Activity for Which Permit Is Requested

Taking. The applicant proposes to study Weddell seals to quantify the dynamics of lipid uptake and utilization in a naturally foraging mammalian carnivore by examining freely diving Weddell seals in Antarctica. This species offers a unique opportunity to model the biochemistry and physiology of nutrient utilization in a large carnivore that may not be possible in any other system. The applicant plans to capture up to 8 adult female seals, attach diving recorders and blood sampling lines, then transport the seals to a diving hut where they will be observed for several days and blood samples taken. Blood samples will also be taken from about 6 pups less than 5 weeks old. All seals will be returned to the tide crack areas.

Location

McMurdo Sound, Antarctica.

Dates

October 5, 2004 to December 31, 2004.

2. Applicant

Arthur L. DeVries, Department of Animal Biology, 524 Burrill Hall, University of Illinois, Urbana, IL 61801.

Permit Application No. 2005-003

Activity for Which Permit Is Requested

Introduce non-indigenous species to Antarctica. The applicant plans to import algal cells (Nanochloropsis) to be fed to imported marine rotifers (Brachionus calyciflorus) after they hatch. After 5 days the rotifers will be harvested by filtering out the algae, and concentrating the rotifers into a thick slurry. The slurry will be flash-frozen and aliquots of the thawed rotifers will be fed daily to the larval stages of the naked dragon fish, Gymnodraco acuticeps. The naked dragon fish spawns in mid-October on rocks in the shallow waters of McMurdo Sound. Their eggs hatch some 10 months later, the full-terms eggs will be collected, the larva hatched in aquarium tanks, and reared in seawater tanks in the Crary Science and Engineering Center at McMurdo Station. The fish will be raised to juvenile stage to follow their elaboration of blood antifreeze glycoproteins. The rotifers and algae will be autoclaved and disposed of as dry biological waste.

Location

McMurdo Station, Ross Island Antarctica.

Dates

August 20, 2004 to February 15, 2005.

Applicant

Lawrence J. Conrad, 845 17th Street, Washougal, WA 98761.

Permit Application No. 2005-004

Activity for Which Permit Is Requested

Enter Antarctic Specially Protected Areas. The applicant proposes take photographs of named geographic features throughout the McMurdo Sound region. The photographs will illustrate a geographically arranged gazetteer or “field guide” to the features. The applicant proposes to enter the Barwick Valley, Victoria Land (ASPA #123) to fully document the Barwick Valley features which will benefit the scientific community in current and future work. Delineating data accompanying each photograph will include latitude, longitude, altitude, date, time, elevation, look direction, focal length and associated camera settings. The photographs and accompanying data will provide the potential for contemporary and future comparative studies of landscape change, thereby reducing need for access to the ASPA. The applicant proposes approximately 5-days work in the Barwick Valley and will fully comply with the designated management plan for the site. Furthermore, the applicant will visit Cape Crozier (ASPA #124) to film Wilson's Stone Igloo and The Knoll, avoiding the penguin and skua rookeries.

In addition, the applicant proposes to enter Discovery Hut (ASPA #157), Cape Evans Historic Site (ASPA #154), and Hut and Associated Artifacts, Backdoor Bay, Cape Royds (ASPA #156) for the purpose of reproducing historic photos of the area for use in the described gazetteer.

Location

ASPA #123—Barwick Valley, Victoria Land

ASPA #124—Cape Crozier, Ross Island

ASPA #154—Cape Evans Historic Site

ASPA #156—Hut and associated artifacts, Backdoor Bay, Cape Royds, Ross Island

ASPA #157—Discovery Hut, Hut Point, Ross Island

Dates

August 22, 2004 to February 15, 2006.

Nadene G. Kennedy,
Permit Officer, Office of Polar Programs.

[FR Doc. 04-11702 Filed 5-24-04; 8:45 am]

BILLING CODE 7555-01-M